DEPARTMENT OF AGRICULTURE

Food and Nutrition Service

Agency Information Collection Activities: Proposed Collection; Comment Request: Improving Coordination Between SNAP and Medicaid in State Agencies

AGENCY: Food and Nutrition Service (FNS), USDA.

ACTION: Notice.

SUMMARY: In accordance with the Paperwork Reduction Act of 1995, this notice invites the general public and other public agencies to comment on this proposed information collection. This collection is a new collection for (1) identifying and describing relevant federal statutory, regulatory, and operational barriers and facilitators that have considerable impact on coordination between the Supplemental Nutrition Assistance Program (SNAP) and Medicaid agencies; (2) identifying and describing relevant State statutory, regulator, and operational barriers and facilitators that have considerable impact on coordination between SNAP and Medicaid agencies; (3) identifying and describing systems used by States to determine eligibility and manage SNAP and Medicaid application and recertification information; (4) identifying and describing similarities and differences in State SNAP and Medicaid applications; and (5) using information collected from Objectives 1-4 to develop a Best Practices Guide that explains how States can better improve coordination between SNAP and Medicaid.

DATES: Written comments must be received on or before June 5, 2023.

ADDRESSES: Comments may be sent to: Michael Burke, Senior Social Science Research Analyst, Food and Nutrition Service, U.S. Department of Agriculture, 1320 Braddock Place, Alexandria, VA 22314. Comments may also be submitted via email to michael.burke@usda.gov. Comments will also be accepted through the Federal eRulemaking Portal. Go to http://www.regulations.gov and follow the online instructions or submitting comments electronically.

All written comments will be open for public inspection at the office of the Food and Nutrition Service during regular business hours (8:30 a.m. to 5:00 p.m.), Monday through Friday at Braddock Metro Center II, 1320 Braddock Place, Alexandria, VA 22314.

All responses to this notice will be summarized and included in the request for Office of Management and Budget approval. All comments will be a matter of public record.

FOR FURTHER INFORMATION CONTACT: Requests for additional information or copies of this information collected should be directed to Michael Burke by email at michael.burke@usda.gov or by phone at (703) 305-4369.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Improving Coordination Between SNAP and Medicaid in State Agencies.

Form Number: Not applicable.

OMB Number: 0584-NEW.

Expiration Date: Not yet determined.

Type of Request: New collection.

Abstract: This is a new information collection request. SNAP and Medicaid serve similar populations, which provides opportunities for State Agencies administering the programs to coordinate policies and processes to improve efficiency, customer service, and program access. This study will conduct case studies in up to five states to understand the challenges with improving program coordination and highlight the best practices that could be shared with other states. FNS has identified five objectives for this study:

1. Identify and describe relevant federal statutory, regulatory, and operational barriers and facilitators that have considerable impact on coordination between SNAP and Medicaid agencies.

2. Identify and describe relevant State statutory, regulatory, and operational barriers and facilitators that have considerable impact on coordination between SNAP and Medicaid agencies.

3. Identify and describe systems used by States to determine eligibility and manage SNAP and Medicaid application and recertification information.

4. Identify and describe similarities and differences in State SNAP and Medicaid applications.

5. Using information collected from Objectives 1-4, develop a Best Practices Guide that explains how States can better improve coordination between SNAP and Medicaid.

Affected Public: Members of the public affected by the data collection include (1) State and local governments, (2) business not-for-profit organizations, or (3) business for-profit agencies.

Case Studies: FNS will reach out to a maximum of ten States to participate in in-depth case studies and expects five to participate. The case studies will involve semi-structured interviews with policy and program administrators and staff of State SNAP and Medicaid agencies, data systems staff from SNAP and Medicaid offices, local SNAP and Medicaid offices, and community-based providers that assist in SNAP and Medicaid application and renewals. After recruiting the five State SNAP and Medicaid agencies, FNS expects one selected local SNAP agency and one selected local Medicaid office to participate in each State. FNS expects that approximately 50 percent of individuals invited to participate will choose not to participate and oversampled to account for nonresponse.

Respondent groups identified for the case studies include the following:

• State and local government

○ State Government or territory SNAP Directors and policy staff (5 case study recruitment respondents, 5 case study recruitment nonrespondents, 15 case study interview respondents, and 0 case study nonrespondents)

○ State Government or territory Medicaid Directors (5 case study recruitment respondents, 5 case study recruitment nonrespondents, 15 case study interview respondents, and 0 case study nonrespondents

○ State or territory Medicaid Director and policy staff (15 case study interview respondents, and 0 case study nonrespondents)

○ State or territory data staff (15 case study interview respondents, and 0 case study nonrespondents)

○ Local SNAP office administrator (10 case study respondents and 0 case study nonrespondents)

○ Local SNAP office frontline staff (20 case study respondents and 0 case study nonrespondents)

○ Local Medicaid office administrator (10 case study respondents and 0 case study nonrespondents)

○ Local Medicaid office frontline staff (20 case study respondents and 0 case study nonrespondents)

• Business for-profit organizations (5 case study recruitment respondents, 5 case study recruitment nonrespondents, 15 case study respondents, and 0 case study nonrespondents)

• Business not-for-profit organizations (5 case study recruitment respondents, 5 case study recruitment nonrespondents, 15 case study respondents and 0 study non respondents)

Estimated Number of Respondents: The total estimated number of respondents is 155 (115 State and local government staff, 20 business not-for-profit organizations, 20 business for-profit organizations). Of the 155 contacted, 135 are estimated to be responsive and 20 are estimated to be nonresponsive. This includes:

• 10 State or territory SNAP directors will participate in recruitment calls (a max of 5 States will participate in the case studies)

• 10 State or territory Medicaid directors will participate in recruitment calls (a max of 5 States will participate in the case studies)

• 15 State or territory SNAP directors and policy staff will participate in a semi-structured interview (five State directors will have participated in recruitment calls and interviews; 100 percent of whom will be asked to review and provide feedback on the process map)

• 15 State or territory Medicaid directors and policy staff will participate in a semi-structured interview (five State directors will have participated in recruitment calls and interviews; 100 percent of whom will be asked to review and provide feedback on the process map)

• 15 State or territory data staff will participate in a semi-structured interview (100 percent of whom will be asked to review and provide feedback on the process map)

• 10 local SNAP office administrators will participate in a semi-structured interview

• 10 local Medicaid office administrators will participate in a semi-structured interview

• 20 local SNAP office frontline staff will participate in a semi-structured interview

• 20 local Medicaid office frontline staff will participate in a semi-structured interview

• 10 business for-profit organizations will participate in a recruitment call (a max of five will participate in semi-structured interviews)

• 10 business not-for-profit organizations will participate in a recruitment call (a max of five will participate in semi-structured interviews)

• 15 business for-profit organizations will participate in a semi-structured interview (five community partner directors will have participated in recruitment calls and semi-structured interviews)

• 15 business non-for-profit organizations will participate in a semi-structured interview (five community partner directors will have participated in recruitment calls and semi-structured interviews)

Estimated Number of Responses per Respondent: 2.42 (2.56 for responsive participants and 1.50 for nonresponsive participants).

Estimated Total Annual Responses: 375 (345 annual responses for responsive participants and 30 annual responses for nonresponsive participants).

Estimated Time per Response: .53 hours (.52 for responsive participants and .68 for nonresponsive participants).

The estimated time of response varies from 0.5 to 1.0357 hours (30 minutes to 62 minutes), depending on the respondent group and activity, as shown in the table below, with an average estimated time of 0.53 hours (32 minutes) for all responses. The average estimated time is calculated by dividing the 198.21 estimated total hours for responses in the table below by the 375 total estimated responses.

Estimated Total Annual Burden on Respondents: 198.21 hours (177.86 for responsive participants and 20.36 for nonresponsive participants). See the table below for estimated total annual burden for each type of respondent by data collection activity including the non-responses.

Tameka Owens,
Assistant Administrator, Food and Nutrition Service.

[FR Doc. 2023-06956 Filed 4-3-23; 8:45 am]

BILLING CODE 3410-30-P